SMALL BUSINESS ADMINISTRATION

[Disaster Declaration #21345 and #21346; ARIZONA Disaster Number AZ-20014]

Administrative Declaration of a Disaster for the State of Arizona

AGENCY: U.S. Small Business Administration.

ACTION: Notice.

SUMMARY: This is a notice of an Administrative declaration of a disaster for the State of Arizona dated November 14, 2025.

Incident: Remnants of Hurricane Priscilla and Tropical Storm Raymond.

DATES: Issued on November 14, 2025.

Incident Period: October 10, 2025 through October 13, 2025.

Physical Loan Application Deadline Date: January 13, 2026.

Economic Injury (EIDL) Loan Application Deadline Date: August 14, 2026.

ADDRESSES: Visit the MySBA Loan Portal at https://lending.sba.gov to apply for a disaster assistance loan.

FOR FURTHER INFORMATION CONTACT: Jennifer Talarico, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Maricopa.

Contiguous Counties:

Arizona: Gila, La Paz, Pima, Pinal, Yavapai, Yuma.

The Interest Rates are:

| Percent
For Physical Damage:
Homeowners with Credit Available Elsewhere | 6.000
Homeowners without Credit Available Elsewhere | 3.000
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 213458 and for economic injury is 213460.

The State which received an EIDL Declaration is Arizona.

(Catalog of Federal Domestic Assistance Number 59008)

(Authority: 13 CFR 1234.3(b).)

James Stallings,
Associate Administrator, Office of Disaster Recovery & Resilience.

[FR Doc. 2025-20259 Filed 11-18-25; 8:45 am]

BILLING CODE 8026-09-P